DEPARTMENT OF OF JUSTICE

Notice of Lodging of Consent Decree Pursuant to the Clean Air Act

In accordance with Departmental policy, 28 CFR 50.7, notice is hereby given that a proposed consent decree in United States v. AGP Corn Processing, Inc. Civil Action No. 8:05 CV418, was lodged on August 29, 2005, with the United States District Court for the District of Nebraska. This consent decree requires the defendant to pay a civil panalty of $40,000 and to perform injunctive relief in the form of installation of control technology to address Clean Air Act violations for the failure to obtain permits and install best achievable control technology (BACT) as required by the regulations for the Prevention of Significant Deterioration (PSD) at the defendant's ethanol plant.

The Department of Justice will receive, for a period of thirty (30) days from the date of this publication, comments relating to the proposed consent decree. Comments should be addressed to the Assistant Attorney General, Environmental and Natural Resources Division, PO Box 7611, U.S. Department of Justice, Washington, DC 20044-7611, and should refer to United States v. AGP Corn Processing, Inc., DOJ Ref. 90-5-2-1-08119.

The proposed consent decree may be examined at the office of the United States Attorney, 1620 Dodge Street, Suite 1400, Omaha, Nebraska 68102, and at U.S. EPA Region 7, 901 N. 5th Street, Kansas City, Kansas 66101. During the comment period, the consent decree may be examined on the following Department of Justice Web site, http://www.usdoj.gov/enrd/open.html. Copies of the consent decree also may be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $9.00 (without attachments) or $12.25 (with attachments) for United States v. AGP Corn Processing, Inc., (25 cents per page reproduction cost) payable to the U.S. Treasury.

Robert Maher,
Assistant Section Chief, Environmental Enforcement Section.

[FR Doc. 05-18884 Filed 9-21-05; 8:45 am]

BILLING CODE 4410-15-M